DEPARTMENT OF DEFENSE

Department of the Army; Corps of Engineers

Intent To Prepare a Draft Supplemental Environmental Impact Statement/Subsequent Environmental Impact Report for the Sacramento River Deep Water Ship Channel, CA

AGENCY: Department of the Army, U.S. Army Corps of Engineers, DoD.

ACTION: Notice of Intent.

SUMMARY: In accordance with the National Environmental Policy Act (NEPA) and the California Environmental Quality Act (CEQA), the U.S. Army Corps of Engineers, San Francisco District, (Corps) in coordination with the Port of Sacramento is preparing a draft Supplemental Environmental Impact Statement /Subsequent Environmental Impact Report (SEIS/SEIR) to evaluate the action of resuming construction of navigational improvements to the Sacramento River Deep Water Ship Channel (SRDWSC). The SRDWSC runs from the Contra Costa county line to the Port of Sacramento. Construction was initiated in 1989, but work was suspended in 1990 after deepening a portion of the channel to the authorized depth of 35 feet. The proposed action involves deepening the existing Federal navigation channel from 30 feet to 35 feet (mean lower low water) and widening portions of the channel to improve navigational efficiency for movement of goods and safety. The SRDWSC project was originally authorized by the River and Harbors Act of 1946 , Public Law 525, 79th Congress, 2nd Session, and reauthorized under Section 202(a) of the Water Resources and Development Act of 1986, Public Law 99-662, 100 Stat. 4092. This is a notice of intent to prepare an SEIS/SEIR, and to consider alternatives, evaluate potential impacts of the proposed action, and identify appropriate mitigation measures.

DATES: A public meeting will be held in West Sacramento on Monday, June, 30, 2008 from 5 p.m. to 7 p.m. The public comment period begins on June 16, 2008. Written comments must be received by July 22, 2008.

ADDRESSES: The meeting will be held at the West Sacramento City Hall, 1110 West Capitol Avenue, West Sacramento, CA 95691.

FOR FURTHER INFORMATION CONTACT: Questions and comments regarding the proposed action can be addressed to: Attn.: Bill Brostoff, ET-PA, U.S. Army Corps of Engineers, San Francisco District, 1455 Market Street, San Francisco, CA 94103-1398; telephone (415) 503-6867; or SPNETPA@usace.army.mil. Written comments can also be faxed to (415) 503-6692 or sent electronically to SPNETPA@usace.army.mil.

SUPPLEMENTARY INFORMATION: 1. Background. The SRDWSC is located in the Sacramento—San Joaquin Delta region of northern California. The 46.5-mile long ship channel lies within Contra Costa, Solano, Sacramento, and Yolo Counties and serves the marine terminal facilities at the Port of Sacramento. The SRDWSC joins the existing 35-foot deep channel at New York Slough, thereby affording the Port of Sacramento access to San Francisco Bay Area harbors and the Pacific Ocean. This navigational improvement project was analyzed in the Feasibility Report and Final Environmental Impact Statement (1980), the General Design Memorandum and Final Supplemental Environmental Impact Statement (1986), and Environmental Assessments (1988, 1991, 1992). Navigational improvements to the SRDWSC were authorized in the Supplemental Appropriations of 1985, Public Law 99-88. Construction to deepen the existing channel to 35 feet was initiated in 1989, but work was suspended in 1990 at the request of the Port of Sacramento. Two of six construction contracts, from River Mile 43 to 35 (approximately eight miles near the Port of Sacramento), have been completed. The Corps was directed to prepare a reevaluation report in a Conference Report, H. Rept. 105-749, 105th Congress, 2nd Sess., 1998, by the Committee of Conference that resolved differences between the House and Senate versions of the bill that became the Energy and Water Appropriations Act of 1999.

2. Proposed Action. The proposed project would complete the deepening and widening of the navigation channel to its authorized depth of 35 feet. Deepening of the existing ship channel is anticipated to allow for movement of cargo via larger deeper draft vessels. Widening portions of the channel would increase navigational safety by increasing maneuverability.

3. Project Alternatives. Alternatives that are anticipated to be evaluated in this SEIS/SEIR include, but are not limited to, the following: (A) No action alternative. (B) Increased use of lighter aboard ship (LASH); lighters (barges) would be used to transport cargo from ports in shallow water to larger ocean going vessels birthed in deeper water. (C) Increased use of intermodal transportation; cargo would be loaded at other terminal facilities and transported by truck or railroad, and (D) project depths shallower than 35 feet.

4. Environmental Considerations. The SEIS/SEIR will update the 1980 EIS and the 1986 SEIS and will evaluate changes to project conditions. The SEIS/SEIR will determine if there are significant new issues, information, or environmental concerns bearing on the proposed project and alternatives. The SEIS/SEIR being prepared will reexamine water and air quality issues, fish and wildlife impacts, and effects to endangered or threatened species; potential impacts from dredging and placement of dredged material at upland disposal sites; and the potential impact of deepening on salinity intrusion in the Delta. Additionally, the economic benefits of the proposed project and alternatives will be examined.

5. Scoping Process. The Corps is seeking participation and input of all interested federal, state, and local agencies, Native American groups, and other concerned private organizations or individuals on the scope of the draft SEIS/SEIR through this public notice. The purpose of the public scoping meeting is to solicit comments regarding the potential impacts, environmental issues, and alternatives associated with the proposed action to be considered in the draft SEIS/SEIR. The meeting place, date and time will be advertised in advance in local newspapers, and meeting announcement letters will be sent to interested parties. The draft SEIS/SEIR will be available for public review and comment in May 2009. The final SEIS/SEIR will be available for review in October 2009.

6. Availability of SEIS/SEIR. The public will have an additional opportunity to comment on project alternatives once the draft SEIS/SEIR is released. The Corps will announce availability of the draft SEIS/SEIR in the Federal Register and other media, and will provide a 45-day public review period for the public, organizations, and agencies to review and comment on the SEIS/SEIR. All submitted comments will be addressed in the final SEIS/SEIR.

Craig W. Kiley,
Lieutenant Colonel, U.S. Army, Commanding.

[FR Doc. E8-13339 Filed 6-12-08; 8:45 am]

BILLING CODE 3710-19-P